DEPARTMENT OF EDUCATION

34 CFR Parts 369 and 371

[Docket ID ED-2013-OSERS-0083]

RIN 1820-AB66

Vocational Rehabilitation Services Projects for American Indians With Disabilities

AGENCY: Rehabilitation Services Administration, Office of Special Education and Rehabilitative Services, Department of Education (RSA).

ACTION: Notice of Proposed Rulemaking.

SUMMARY: The Secretary proposes to amend the definition of “reservation” under the regulations governing the American Indian Vocational Rehabilitation Services (AIVRS) program in one of two ways.

The first proposed amendment, “Alternative A,” would conform the definition to the Department's current interpretation and practices. In order to be eligible for a grant, a federally or State recognized tribe must be located on a Federal or State reservation. The statutory definition of “reservation” includes Federal or State Indian reservations; public domain Indian allotments; former Indian reservations in Oklahoma; and land held by incorporated Native groups, regional corporations, and village corporations under the provisions of the Alaska Native Claims Settlement Act. The Department's “Alternative A” definition would also include as a reservation “defined areas of land recognized by a State or the Federal Government where there is a concentration of tribal members and on which the tribal government is providing structured activities and services.”

The second proposed amendment to the regulatory definition of “reservation,” “Alternative B,” would limit the areas of land the Department considers to be reservations to those that are listed in the statutory definition of “reservation”: Federal or State Indian reservations; public domain Indian allotments; former Indian reservations in Oklahoma; or land held by incorporated Native groups, regional corporations, and village corporations under the provisions of the Alaska Native Claims Settlement Act.

The Secretary seeks comment on both alternatives.

DATES: We must receive your comments on or before August 22, 2014.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Thomas Finch, U.S. Department of Education, 400 Maryland Avenue SW., Room 5147 Potomac Center Plaza (PCP), Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Thomas Finch, U.S. Department of Education, 400 Maryland Avenue SW., Room 5147, Potomac Center Plaza (PCP), Washington, DC 20202-2800. Telephone: (202) 245-7343, or by email: Tom.Finch@ed.gov.

If you use a telecommunications device for the deaf (TDD) or a text telephone (TTY), call the Federal Relay Service (FRS), toll free, at 1-800-877-8339.

SUPPLEMENTARY INFORMATION: Invitation to Comment: We invite you to submit comments regarding these proposed regulations. Specifically, we invite comments from tribal officials, tribal governments, tribal organizations, affected tribal members, State vocational rehabilitation (VR) agencies, VR counselors, and all other concerned parties.

We also invite you to assist us in complying with the specific requirements of Executive Orders 12866 and 13563 and their overall requirement of reducing regulatory burden that might result from these proposed regulations. Please let us know of any further ways we could reduce potential costs or increase potential benefits while preserving the effective and efficient administration of the Department's programs and activities.

During and after the comment period, you may inspect all public comments about these proposed regulations by accessing Regulations.gov. You may also inspect the comments in person in room 5147 Potomac Center Plaza (PCP), Washington, DC 20202-2800, between 8:30 a.m. and 4:00 p.m. Washington, DC time, Monday through Friday of each week except Federal holidays. Please contact the person listed under FOR FURTHER INFORMATION CONTACT.

Assistance to Individuals With Disabilities in Reviewing the Rulemaking Record: On request we will provide an appropriate accommodation or auxiliary aid to an individual with a disability who needs assistance to review the comments or other documents in the public rulemaking record for these proposed regulations. If you want to schedule an appointment for this type of accommodation or auxiliary aid, please contact the person listed under FOR FURTHER INFORMATION CONTACT.

Background

Under section 121(a) of the Rehabilitation Act of 1973, as amended (the Rehabilitation Act) (29 U.S.C. 741(a)), the RSA Commissioner may make grants to the governing bodies of Indian tribes located on Federal and State reservations (and consortia of such governing bodies) to pay 90 percent of the costs of VR services for American Indians who are individuals with disabilities residing on or near such reservations. The purpose of the program is for the tribes to provide VR services to these individuals so that they can prepare for and engage in gainful employment.

Section 121(c) of the Rehabilitation Act defines the term “reservation” as: “The term `reservation' includes Indian reservations, public domain Indian allotments, and former Indian reservations in Oklahoma, and land held by incorporated Native groups, regional corporations, and village corporations under the provisions of the Alaska Native Claims Settlement Act.” The current regulatory definition of “reservation” under the AIVRS program at 34 CFR 371.4(b) is similar: “Reservation means a Federal or State Indian reservation, public domain Indian allotment, former Indian reservation in Oklahoma, and land held by incorporated Native groups, regional corporations and village corporations under the provisions of the Alaska Native Claims Settlement Act.”

The Department currently interprets the term “includes” in the statutory definition of “reservation” to mean that the list of land areas in the statute is not exhaustive. As a result, the Department considers other land areas that it determines are consistent with both the purpose of the program and the list of land areas provided in the statute to be within the meaning of “reservation.” Thus, the Department's longstanding interpretation of the statute is that tribes that are located on a defined and contiguous (i.e. attached, bordering, adjacent) area of land where there is a concentration of tribal members and on which the tribal government is providing structured activities and services meet the statutory definition of “reservation.”

From FY 2007 through FY 2011, five grantees, serving six tribes, were awarded AIVRS grants using the Department's long-standing interpretation of “reservation.” In FY 2013, these grantees provided services to 559 American Indians with disabilities. The Department has received no complaints about the grantees' eligibility at any time during the life of these grants.

We are proposing Alternative A because the current definition of “reservation” in § 371.4(b) does not clearly reflect our statutory interpretation. The Department seeks comment on the amended definition in Alternative A that would make its current interpretation explicit.

The proposed Alternative B definition of “reservation” arises out of a May 9, 2012, U.S. Government Accountability Office (GAO) report, “Federal Funding for Non-Federally Recognized Tribes,” GAO-12-348 (available at www.gao.gov/products/GAO-12-348). The report questions whether the Department's interpretation of “reservation” is broader than the term's statutory definition.

Specifically, the GAO questioned the Department's view that a State-recognized tribe is eligible for AIVRS program grants when it is not located on a State reservation but on a defined area of land where there is a concentration of tribal members and on which the tribal government is providing structured activities and services—described in the tribal service area outlined in a tribe's grant application. The Department provided comments on the GAO's draft report supporting its current practice. The GAO, in its final report, recommended that the Secretary review the eligibility requirements for AIVRS grants and take appropriate action.

The Department has done so, and here continues to consider how best to interpret the statute in light of the purposes of the program. The Department is therefore also seeking comment on a proposed definition of “reservation” that limits eligibility to tribes located only on those areas of land specifically identified in the statutory definition—Alternative B. This proposed change would align the Department's interpretation of “reservation” in the AIVRS program with that of the GAO.

In considering these alternative definitions of “reservation” in the AIVRS program, we have consulted internally, as well as with officials of other Federal government agencies. In addition, as required by Executive Order 13175, the Department consulted tribal officials, tribal governments, tribal organizations, and affected tribal members regarding this matter. The tribal consultation conducted by the Department is described further in the Tribal Summary Impact Statement section of this notice.

Finally, the same definition of “reservation” found in 34 CFR 371.4(b) is included in 34 CFR 369.4(b), the regulations governing special project activities, including the AIVRS program, that provide vocational rehabilitation services. We therefore propose conforming amendments to 34 CFR 369.4.

Summary of Proposed Changes

The proposed regulation in Alternative A would amend § 371.4(b) to reflect the Department's current interpretation and practices. Tribes eligible for AIVRS grants would continue to be those located on land specifically identified in the statute, as well as those located on a defined area of land recognized by a State or the Federal Government where there is a concentration of tribal members and on which the tribal government is providing structured activities and services.

In refining our current interpretation in these proposed regulations, we have removed the requirement that the tribal lands be contiguous and added the requirement that they be recognized by a State or the Federal Government. While in the past, many of the tribal lands of tribes that received grants under our current interpretation have been contiguous, we have determined that requiring the lands to be contiguous is not essential to be considered a “reservation” for the purposes of the AIVRS program. We believe that, in order to have similar characteristics to a reservation, the tribal lands must be located on a defined area of land recognized by a State or the Federal Government where there is a concentration of tribal members and on which the tribal government is providing structured activities and services. We understand that some tribal lands so recognized are not necessarily contiguous.

The proposed regulation in Alternative B would limit eligibility to tribes located only on those areas of land specifically identified in the statutory definition. Statute: Section 121(a) of the Rehabilitation Act authorizes the RSA Commissioner to “make grants to the governing bodies of Indian tribes located on Federal and State reservations (and consortia of such governing bodies) to pay 90 percent of the costs of vocational rehabilitation services for American Indians who are individuals with disabilities residing on or near such reservations.” Section 121(c) of the Rehabilitation Act defines the term “reservation” as: “The term `reservation' includes Indian reservations, public domain Indian allotments, former Indian reservations in Oklahoma, and land held by incorporated Native groups, regional corporations, and village corporations under the provisions of the Alaska Native Claims Settlement Act.”

Current Regulations: Section 371.2 of the current regulations implementing section 121 of the Rehabilitation Act provides that applications may be made only by the governing bodies of Indian tribes and consortia of those governing bodies located on Federal and State reservations. Current § 371.4(b) defines “reservation” as “a Federal or State Indian reservation, public domain Indian allotment, former Indian reservation in Oklahoma, and land held by incorporated Native groups, regional corporations and village corporations under the provisions of the Alaska Native Claims Settlement Act.”

Proposed Regulations: Under proposed Alternative A, we would amend current § 371.4 to reflect more clearly the Department's current eligibility determination practices and interpretation of “reservation.” Specifically, we would amend the definition of “reservation” to include “a defined area of land recognized by a State or the Federal Government where there is a concentration of tribal members and on which the tribal government is providing structured activities and services.” This definition would include lands identified in the U.S. Census as a State-designated tribal statistical area or a tribal-designated statistical area and lands designated as tribal service areas by statute, judicial decision, or administrative determination.

Under proposed Alternative B, we would amend current § 371.4 to state that only those land areas specifically listed in the statutory definition of “reservation” qualify as a reservation. Consequently, under § 371.2, only those tribes that are located on land areas that are listed under the definition of “reservation” would be eligible to apply for a grant under the AIVRS program. This alternative would constitute a change in the Department's interpretation such that federally recognized tribes without Federal reservations, State recognized tribes without State reservations, or other areas of land not specifically listed in the statutory definition of “reservation” would not be eligible to apply for grants under the AIVRS program.

Reasons: The Department is proposing two alternative regulatory interpretations of the statutory definition of “reservation” in the AIVRS program because we believe that the statute is capable of these different interpretations, and we are seeking public comment on both of them, including their policy ramifications, to inform our decision.

The statutory definition of “reservation” specifically includes land areas that meet the requirements for a reservation (past or present). Use of the term “includes” in the definition, however, indicates that the list need not be exhaustive. Proposed Alternative A areas of land would be identified by the Federal or State Government as discrete areas of land in which tribes provide governmental services to their members, although they do not share all of the characteristics of the areas of land listed in the statute.

For example, tribal land areas proposed as “reservations” in Alternative A are identified by States (in the case of State-designated tribal statistical areas) or by federally recognized Indian tribes (in the case of tribal designated statistical areas) and are accepted by the U.S. Census Bureau, which recognizes them as compact and contiguous areas of land that contain a concentration of people who identify with the tribe and in which there is structured or organized tribal activity. Other service areas that would be covered by proposed Alternative A are defined by State or Federal statute. See, e.g., the Ponca Restoration Act, which establishes a service area for members of the Ponca Tribe of Nebraska in various counties in Nebraska, Iowa, and South Dakota. 25 U.S.C. 983c. Still other areas identified by judicial decision or administrative determination could be covered. Please refer to the discussion of proposed Alternative B below to understand how the characteristics of these types of land areas differ from the land areas specified in the statute.

Arguably, including these areas of land in addition to those listed in the statute furthers the purpose of the AIVRS program, which the Department administers with the goal of assisting tribes to provide vocational rehabilitation services in a culturally sensitive manner to as many American Indians with disabilities as possible, resulting in meaningful employment.

In proposed Alternative B, we are considering the interpretation recommended by GAO in its report, that the list of land areas contained in the statutory definition of “reservation” should be exclusive and no other areas of land can be “reservations” under the AIVRS program. There may be some support for such an interpretation in other Federal statutes we have examined that authorize financial assistance to Indian tribes and that have been interpreted to include the tribes whose eligibility is at issue here. These statutes use language defining the eligibility of tribes that is broader than the AIVRS governing statute and that authorizes financial assistance to tribes with or without reservations. These statutes use either the phrase “including but not limited to” or explicitly include the authority to provide assistance, for example, to Indian organizations or public or private nonprofit agencies serving Indians. See, e.g., Native Americans Program Act of 1974, 42 U.S.C. 2991b and the Indian Health Care statute, 25 U.S.C. 1644(c).

The Department acknowledges that the areas of land it currently accepts and proposes to include in Alternative A as “reservations” are not specifically identified in the statute and are distinguishable in two respects. All of the statutorily specified land areas—reservations, public domain Indian allotments, former Indian reservations in Oklahoma, and land held by incorporated Native groups, regional corporations, and village corporations under the provisions of the Alaska Native Claims Settlement Act—are (or were) formally recognized and set aside by the Federal or State government for use by Indians and are (or were) subject to Federal or State supervision.

The additional areas of land proposed in Alternative A are not located on reservations, or on any of the other areas listed in the statute as reservations, and do not share these characteristics: They are not set aside for Indians by the Federal or State government, and neither the Federal nor State governments have oversight over them. One reason for limiting AIVRS eligibility to only those tribes that have reservations or other land areas listed in the statute, is to contain the program to tribes that have a certain relationship with a State or the Federal Government that the traditional reservation status implies.

Because we believe either interpretation is supportable, we propose alternative regulations that would each clarify eligibility for the program but have different consequences for affected tribes. We welcome comment on both.

Executive Orders 12866 and 13563

Regulatory Impact Analysis

Under Executive Order 12866, the Secretary must determine whether this regulatory action is “significant” and therefore subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is a significant regulatory action subject to review by OMB under section 3(f)(4) of Executive Order 12866.

We have also reviewed these regulations under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed regulations only on a reasoned determination that their benefits would justify their costs. In choosing among alternative regulatory approaches, we selected those approaches that maximize net benefits. Based on the analysis that follows, the Department believes that these proposed regulations are consistent with the principles in Executive Order 13563.

In accordance with both Executive orders, the Department has assessed the potential costs and benefits, both quantitative and qualitative, of this regulatory action. The potential costs associated with this regulatory action are those resulting from our interpretation of statutory requirements and those we have determined are necessary for administering the Department's programs and activities.

The amendment to the regulatory definition of “reservation” proposed in Alternative A would produce no change in costs or benefits as it conforms the definition to the Department's current interpretation and practices. The proposed change to “reservation” in Alternative B would affect five current grantees (six tribes, as one grantee is a consortium of two tribes) that currently receive funding through the AIVRS program and at least 29 other federally or state-recognized tribes that we have identified through census data. These tribes would be significantly affected in that they would not be eligible to apply for grants under the AIVRS program. Also significantly affected would be the American Indians with disabilities (559 in FY 2013) who would have sought VR services through these tribes.

The obvious sources to continue to provide VR services to American Indians with disabilities are the State VR programs. Section 121(b)(3) of the Rehabilitation Act of 1973, as amended, requires States to “provide vocational rehabilitation services under its State plan to American Indians residing on or near a reservation whenever such State includes any such American Indians in its State population under section 110(a)(1).”

Of the six tribes that would be immediately affected by the change in proposed Alternative B, two tribes are in Washington State, three tribes are in Louisiana, and one tribe is in North Carolina. Information obtained from discussions with State VR Directors suggests that the State Division of Rehabilitation Services in Washington would be able to serve consumers currently being served by the two AIVRS grantees in that State, whereas Louisiana and North Carolina indicated that they would not be able to absorb the large number of individuals who would need to be served. In addition, Louisiana is under an order of selection whereby it only serves individuals with the most severe or significant disabilities. Therefore, it is unlikely that the current 121 consumers who do not have the most significant disabilities served by that project would be able to receive VR services under an order of selection.

On the other hand, because new grantees would replace the current grantees and provide VR services to American Indians with disabilities who need them in order to secure or maintain employment, the change would primarily involve a shift of resources among projects. Thus, there may not be a net effect in terms of the purpose of the program, which is to serve and place American Indians with disabilities into competitive employment.

In addition, the pool of eligible applicants for a grant under the AIVRS program includes all federally- and State-recognized tribes that are located on reservations as defined specifically by the statute. This is a large majority of the tribes. Currently, RSA provides funds to 85 tribal VR programs to provide VR services to American Indians with disabilities; consequently, the pool of potential applicants is still quite large, and the Department has information that eligible tribes that have not previously applied for an AIVRS grant are preparing to do so.

Under the capacity-building projects in section 21 of the Rehabilitation Act, the Department awards grants to provide support to traditionally underserved populations by conducting research, training, technical assistance, or a related activity to improve services provided under the Act. The grants included a project that conducted grant-writing workshops for American Indian tribes. The Director of this project indicated that, at a minimum, there are at least 12 eligible tribes that have attended the grant writing workshops that have not previously submitted applications for this program, and the tribes have expressed an intent to apply when the Department holds its next competition.

In summary, proposed Alternative B would have a major effect on a small number of current and future grantees. However, we would expect to fund new grantees at the same level as the current grantees. Therefore, the net effect of this proposed change is likely to be that it will not have a noticeable effect on the number of American Indians with disabilities served and placed in employment by the AIVRS program.

Clarity of the Regulations

Executive Order 12866 and the Presidential memorandum “Plain Language in Government Writing” require each agency to write regulations that are easy to understand.

The Secretary invites comments on how to make these proposed regulations easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections? (A “section” is preceded by the symbol “§ ” and a numbered heading; for example, § 350.6.)

• Could the description of the proposed regulations in the SUPPLEMENTARY INFORMATION section of this preamble be more helpful in making the proposed regulations easier to understand? If so, how?

• What else could we do to make the proposed regulations easier to understand?

To send any comments that concern how the Department could make these proposed regulations easier to understand, see the instructions in the ADDRESSES section.

Regulatory Flexibility Act Certification

The Secretary certifies that these proposed regulations would not have a significant impact on a substantial number of small entities. Applicants to RSA's AIVRS program are the governing bodies of Indian tribes or consortia of such governing bodies located on Federal and State reservations and are not considered small entities under the Regulatory Flexibility Act.

Paperwork Reduction Act of 1995

This proposed regulation does not contain any information collection requirements.

Intergovernmental Review

This program is not subject to Executive Order 12372 and the regulations in 34 CFR part 79.

Tribal Summary Impact Statement

As the first step in soliciting feedback on a possible change in the Department's interpretation of “reservation” under the AIVRS program, and consistent with Executive Order 13175 entitled “Consultation and Coordination With Indian Tribal Governments,” the Department of Education published a Notice of Tribal Consultation and Request for Comments in the Federal Register on July 5, 2013 (78 FR 40458). That notice sought input from tribal officials, tribal governments, tribal organizations, and affected tribal members about a possible change in the Department's interpretation of the term of “reservation” as that term is used in determining AIVRS program grant eligibility.

The Department's request seeking input focused on three areas: (1) The potential effect on limiting eligibility for AIVRS grants to those Indian tribes (and consortia of tribes) located only on Federal and State reservations and the other land areas specifically listed in the statutory definition of “reservation”; (2) for tribes that currently provide services under this program and that would not meet the revised interpretation of “reservation,” how the individuals receiving those services would continue to receive vocational rehabilitation services to help them in obtaining employment or returning to work; and (3) how a revised interpretation of “reservation” might affect the pool of potential applicants for the AIVRS program that have not previously applied but may consider applying for an AIVRS grant.

The Department received a total of 72 comments in response to the published notice, three of which did not respond directly to the areas on which the Department focused. The 69 remaining comments supported retaining the Department's current interpretation of “reservation.” With regard to the three specific areas on which the Department sought comment, 58 commenters believed that limiting eligibility to only those Indian tribes on Federal or State reservations as defined specifically in the statute would result in a loss of services or the availability of services to American Indians with disabilities; 25 commenters did not believe that the State VR program is as well prepared as the AIVRS projects to provide VR services, including traditional healing services, in a way that would be culturally sensitive to tribal consumers; and 11 commenters believed that a change to the interpretation of “reservation” would reduce the pool of potential applicants.

As a supplement to the Federal Register notice seeking input, program officials from the Department also participated in two face-to-face Tribal Consultation Listening Sessions that were held in August (Smith River, California) and September (Scottsdale, Arizona) 2013. The participants were asked to respond to the same three areas identified in the Federal Register notice. The comments provided by participants during these “Listening Sessions,” while much fewer in number, were comparable to those received in response to the Federal Register notice and were primarily from the same tribes that provided responses to the notice. These commenters supported retaining the current interpretation of “reservation.” They believed that, for those consumers receiving services under the AIVRS program, such services would not continue because tribal members would be reluctant to seek services from the State VR agencies or the agencies' case load would not be able to absorb them.

Accessible Format: Individuals with disabilities can obtain this document in an accessible format (e.g., braille, large print, audiotape, or compact disc) on request to the person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department. Catalog of Federal Domestic Assistance Number 84.250.

List of Subjects

34 CFR Part 369

Grant programs—social programs, Reporting and recordkeeping requirements, Vocational rehabilitation.

34 CFR Part 371

Grant programs—Indians, Grant programs—social programs Indians, Vocational rehabilitation.

Dated: June 16, 2014.
Michael K. Yudin,
Acting Assistant Secretary for Special Education and Rehabilitative Services.

For the reasons discussed in the preamble, the Secretary proposes to amend parts 369 and 371 of title 34 of the Code of Federal Regulations as follows:

PART 369—VOCATIONAL REHABILITATION SERVICE PROJECTS

1. The authority citation for part 369 continues to read as follows:

Authority: 29 U.S.C. 7011(c), 732, 750, 777(a)(1), 777b, 777f and 795g, unless otherwise noted.

2. Section 369.4(b) is amended by revising the definition of “Reservation” to read as follows:

[Alternative A]

§ 369.4 What definitions apply to these programs?

* * * * *

(b) * * *

Reservation means a Federal or State Indian reservation; public domain Indian allotment; former Indian reservation in Oklahoma; land held by incorporated Native groups, regional corporations, and village corporations under the provisions of the Alaska Native Claims Settlement Act; or a defined area of land recognized by a State or the Federal Government where there is a concentration of tribal members and on which the tribal government is providing structured activities and services.

* * * * *

[Alternative B]

§ 369.4 What definitions apply to this program?

* * * * *

(b) * * *

Reservation means only a Federal or State Indian reservation, public domain Indian allotment, former Indian reservation in Oklahoma, and land held by incorporated Native groups, regional corporations, and village corporations under the provisions of the Alaska Native Claims Settlement Act.

* * * * *

PART 371—VOCATIONAL REHABILITATION SERVICES PROJECTS FOR AMERICAN INDIANS WITH DISABILITIES

3. The authority citation for part 371 continues to read as follows:

Authority: 29 U.S.C. 709(c) and 741, unless otherwise noted.

4. Section 371.4(b) is amended by revising the definition of “Reservation” to read as follows:

[Alternative A]

§ 371.4 What definitions apply to this program?

* * * * *

(b) * * *

Reservation means a Federal or State Indian reservation; public domain Indian allotment; former Indian reservation in Oklahoma; land held by incorporated Native groups, regional corporations, and village corporations under the provisions of the Alaska Native Claims Settlement Act; or a defined area of land recognized by a State or the Federal Government where there is a concentration of tribal members and on which the tribal government is providing structured activities and services.

* * * * *

[Alternative B]

§ 371.4 What definitions apply to this program?

* * * * *

(b) * * *

Reservation means only a Federal or State Indian reservation, public domain Indian allotment, former Indian reservation in Oklahoma, and land held by incorporated Native groups, regional corporations, and village corporations under the provisions of the Alaska Native Claims Settlement Act.

* * * * *

[FR Doc. 2014-14387 Filed 6-20-14; 8:45 am]

BILLING CODE 4000-01-P